DEPARTMENT OF AGRICULTURE

2 CFR Chapter IX

5 CFR Chapter LXXIII

7 CFR Subtitle A and Chapters I Through VII, XIV Through XVIII, XX, XXVI Through XXXVIII, XLI, and XLII

9 CFR Chapters I Through III

36 CFR Chapter II

48 CFR Chapter 4

Reducing Regulatory Burden; Retrospective Review Under Executive Order 13563

AGENCY: Office of the Secretary, USDA.

ACTION: Request for Information (RFI).

SUMMARY: In accordance with Executive Order 13563, “Improving Regulation and Regulatory Review,” the Department of Agriculture (USDA) is reviewing its existing regulations to evaluate their continued effectiveness in addressing the circumstances for which they were promulgated. As part of this review, USDA invites public comment to assist in analyzing its existing significant regulations to determine whether they should be modified, streamlined, expanded, or repealed.

The focus of USDA's initial review is to identify areas where it can simplify and reduce the reporting burden on the public for entry and access to USDA programs, while simultaneously reducing its administrative and operating costs by sharing similar data across participating agencies.

DATES: Comments and information are requested on or before May 20, 2011.

ADDRESSES: Interested persons are invited to submit comments regarding this notice. All submissions must refer to “Retrospective Review” to ensure proper delivery.

Electronic Submission of Comments. Interested persons may submit comments electronically through the Federal eRulemaking Portal: http://www.regulations.gov. USDA strongly encourages commenters to submit comments electronically. Electronic submission of comments allows the commenter maximum time to prepare and submit a comment, and ensures timely receipt by USDA. Commenters should follow the instructions provided on that site to submit comments electronically.

E-mail Submission of Comments. Comments may be submitted by E-mail: reg.review@obpa.usda.gov. E-mail submission of comments must include the term “Retrospective Review” in the subject line of the message.

Submission of Comments by Mail. Paper, disk, or CD-ROM submissions should be submitted to Julie Hetrick, Office of Budget and Program Analysis, USDA, Jamie L. Whitten Building, Room 101-A, 1400 Independence Ave., SW., Washington, DC 20250.

Submission of Comments by Hand Delivery/Courier: Julie Hetrick, Office of Budget and Program Analysis, USDA, Jamie L. Whitten Building, Room 101-A, 1400 Independence Ave., SW., Washington, DC 20250.

Background: To read background information on Executive Order 13563, go to http://www.regulations.gov/exchange/topic/eo-13563.

FOR FURTHER INFORMATION CONTACT: Julie Hetrick, Office of Budget and Program Analysis, Jamie L. Whitten Building, Room 101-A, USDA, 1400 Independence Ave., SW., Washington, DC 20250; Voice: (202) 720-1269.

SUPPLEMENTARY INFORMATION:

I. Executive Order 13563

On January 18, 2011, the President issued Executive Order 13563, “Improving Regulation and Regulatory Review,” to ensure that Federal regulations use the best available tools to promote innovation that will reduce costs and burden while allowing public participation and an open exchange of ideas. These principles will enhance and strengthen Federal regulations to allow them to achieve their regulatory objectives, most important among them, protecting public health, welfare, safety, and the environment. In consideration of these principles, and as directed by the Executive Order, Federal agencies and departments need to periodically review and consider existing regulations that may be outmoded, ineffective, insufficient, or excessively burdensome and to modify, streamline, expand, or repeal them in accordance with what has been learned. As part of this retrospective review of regulations, and as USDA develops a preliminary plan to periodically review the regulatory programs of its mission areas, USDA is seeking public comment on how best to remove obstacles created by current regulations and ways to improve them to help USDA agencies advance the mission of the Department.

II. Request for Information

USDA is contemplating focusing its initial retrospective review under Executive Order 13563 in the following areas: Rural Development, Farm Service Agency, Natural Resources Conservation Service, and the Food Safety and Inspection Service. Each area has identified potential issues for review. USDA is particularly interested in public comments that speak to these areas and the issues identified below.

A. Rural Development

To better serve its customers, Rural Development (RD) is considering a review of its regulations in order to determine whether certain application procedures can be streamlined. RD is particularly interested in hearing from the public on how best to streamline certain application procedures to reflect the size and risk of certain types of loans and grants, including required audits, paperwork, and forms, and other ways to reduce excessive burdens.

B. Farm and Foreign Agricultural Services

The Farm and Foreign Agricultural Services (FFAS) mission area is considering a review of process improvements that could be achieved through the consolidation of information required to participate in farm programs administered by the Farm Service Agency and the Federal Crop Insurance Program administered by the Risk Management Agency. FFAS is interested in hearing from the public on how best to simplify and standardize, to the extent practical, acreage reporting processes, program dates, and data definitions across the various USDA programs and agencies. FFAS also welcomes comments on how best to develop procedures, processes, and standards that will allow producers to use information from their farm-management and precision-ag systems for reporting production, planted and harvested acreage, and other key information needed to participate in USDA programs. These process changes may allow for program data that is common across agencies to be collected once and utilized or redistributed to agency programs in which the producer chooses to participate. It also may provide a single Web site for producers to report commodity information if they so choose, or access their previously reported information.

C. Natural Resources Conservation Service

The Natural Resources Conservation Service (NRCS) is considering a review of its regulations consistent with its other ongoing streamlining efforts to improve the processes that deliver technical and financial assistance to program users. To inform this process, NRCS welcomes comments on approaches that will allow NRCS to enhance its delivery of technical assistance and streamline the application process and participation in financial assistance programs. NRCS is specifically interested in comments on such approaches as allowing customers to apply for programs or services online 24/7, reducing the number of office visits required through the use of mobile technologies, accelerating payments to clients after a practice is applied, and simplifying conservation plan documents.

D. Food Safety and Inspection Service

The Food Safety and Inspection Service (FSIS) is considering a review of its regulations to identify potential improvements in information collection procedures to increase the quality of data available to inform and support regulatory decision making. For example, FSIS is considering collecting additional information about establishment verification testing, such as testing for pathogens. FSIS is also considering potential means to decrease the recordkeeping burden on industry, by possibly reducing label submission requirements. In addition, FSIS is also considering how its new Public Health Information System could potentially be used to share data and reduce data reporting requirements. To aid this effort, FSIS invites the public to comment on how best to improve data quality and minimize the recordkeeping burden on industry.

III. Questions for Commenters

In providing comments, the public is encouraged to respond to the questions as they pertain to the four areas identified above:

(1) Are there regulations or reporting requirements that have become outdated and, if so, how can they be modernized to accomplish their regulatory objectives better?

(2) Do agencies currently collect information that they do not need or use effectively to achieve regulatory objectives?

(3) Is there information that agencies should begin collecting to achieve regulatory objectives?

(4) Are there regulations, reporting requirements, or regulatory submission or application processes that are unnecessarily complicated, or that could be streamlined to achieve regulatory objectives in ways that are more efficient?

(5) Are there regulations, submission and application processes, or reporting requirements that have been overtaken by technological developments? Can new technologies be used to modify, streamline, or do away with existing regulatory or reporting requirements?

This is a non-exhaustive list that is meant to assist in the formulation of comments and is not intended to limit the issues that commenters may choose to address. Although we are contemplating on focusing our initial review on the four areas identified above, we welcome comments from the public on any of USDA's regulations and ways to improve them to help USDA agencies advance the mission of the Department consistent with the Executive Order. We encourage the public to comment on those rules that have been in effect for a sufficient amount of time to warrant meaningful evaluation. USDA notes that this RFI is issued solely for information and program-planning purposes. While responses to this RFI do not bind USDA to any further actions related to the response, all submissions will be made publicly available on http://www.regulations.gov.

Signed in Washington, DC, on April 12, 2011.
Thomas J. Vilsack,
Secretary of Agriculture.

[FR Doc. 2011-9522 Filed 4-19-11; 8:45 am]

BILLING CODE 3410-90-P